FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 16, 2013.

A. Federal Reserve Bank of Chicago (Colette A. Fried, Assistant Vice President) 230 South LaSalle Street, Chicago, Illinois 60690-1414:

1. The Exempt Family Trust u/a Imogene P. Johnson 2012 Gift Trust and Helen P. Johnson-Leipold as trustee, Racine, Wisconsin; as a member of the Johnson Family Control Group, to acquire voting shares of Johnson Financial Group, Inc., and thereby indirectly acquire voting shares of Johnson Bank, both in Racine, Wisconsin.

B. Federal Reserve Bank of Kansas City (Dennis Denney, Assistant Vice President) 1 Memorial Drive, Kansas City, Missouri 64198-0001:

1. Lisa J. Green, Lawton, Oklahoma; as trustee of the 2000 Green Family Trust, to acquire voting shares of B.O.E. Bancshares, Inc., and thereby indirectly acquire voting shares of Liberty National Bank, both in Lawton, Oklahoma.

Board of Governors of the Federal Reserve System, March 27, 2013.
Michael J. Lewandowski,
Assistant Secretary of the Board.

[FR Doc. 2013-07519 Filed 4-1-13; 8:45 am]

BILLING CODE 6210-01-P